DEPARTMENT OF COMMERCE

Patent and Trademark Office

Electronic Response to Office Action and Preliminary Amendment Forms

ACTION: Proposed collection; comment request.

SUMMARY: The United States Patent and Trademark Office (USPTO), as part of its continuing effort to reduce paperwork and respondent burden, invites the general public and other Federal agencies to take this opportunity to comment on the revision of a continuing information collection, as required by the Paperwork Reduction Act of 1995, Public Law 104-13 (44 U.S.C. 3506(c)(2)(A)).

DATES: Written comments must be submitted on or before January 12, 2010.

ADDRESSES: You may submit comments by any of the following methods:

* E-mail: Susan.Fawcett@uspto.gov. Include “0651-0050 Electronic Response to Office Action and Preliminary Amendment Forms collection comment” in the subject line of the message.

* Fax: 571-273-0112, marked to the attention of Susan K. Fawcett.

* Mail: Susan K. Fawcett, Records Officer, Office of the Chief Information Officer, United States Patent and Trademark Office, P.O. Box 1450, Alexandria, VA 22313-1450.

* Federal Rulemaking Portal: http://www.regulations.gov.

FOR FURTHER INFORMATION CONTACT: Requests for additional information should be directed to the attention of Janis Long, Attorney Advisor, Office of the Commissioner for Trademarks, United States Patent and Trademark Office, P.O. Box 1450, Alexandria, VA 22313-1450, by telephone at 571-272-9573, or by e-mail to Janis.Long@uspto.gov.

SUPPLEMENTARY INFORMATION:

I. Abstract

The United States Patent and Trademark Office (USPTO), pursuant to the Trademark Act, 15 U.S.C. 1051 et seq. and Chapter 37 of the Code of Federal Regulations, issues Office Actions in which it requests that applicants for trademark registration furnish information that is required for the issuance of a registration but that was not provided with the initial submission of the application for registration. The Response to Office Action form may be used to reply to an Office Action that was issued in connection with an application for registration or after the submission of a Statement of Use.

Additionally, applicants may supplement their applications by providing additional information voluntarily. When such information is provided before the USPTO has reviewed the application, the submission is in the nature of a Preliminary Amendment.

The Request for Reconsideration after Final Action is filed after issuance of a final Office Action but before the deadline for filing an appeal. Filing the Request for Reconsideration early in the six-month response period can eliminate the need for some appeals or petitions and reduce the need for remands and transfers of applications on appeal.

Applicants may also file a Post Publication Amendment in order to submit a proposed amendment to an application that has already been approved for publication by the examining attorney. If an applicant receives a Suspension Inquiry or Letter of Suspension from the USPTO, the applicant may use the response form to file a reply.

II. Method of Collection

The forms in this collection are available in electronic format through the Trademark Electronic Application System (TEAS), which may be accessed on the USPTO Web site. Applicants may also submit the information in paper form by mail, fax or hand delivery.

III. Data

OMB Number: 0651-0050.

Form Number(s): PTO Forms 1771, 1822, 1957, 1960 and 1966.

Type of Review: Revision of a currently approved collection.

Affected Public: Primarily business or other for-profit organizations.

Estimated Number of Respondents: 208,360 per year.

Estimated Time Per Response: The USPTO estimates that it will take approximately 10 minutes (0.17 hours) to 23 minutes (0.38 hours) to gather the necessary information, create the document, and submit the completed request, depending on whether the information is submitted electronically or on paper.

Estimated Total Annual Respondent Burden Hours: 57,416 hours per year.

Estimated Total Annual Respondent Cost Burden: $17,798,960. The USPTO believes that attorneys will complete the information in this collection. The professional hourly rate for attorneys in private firms is $310. This is a fully-loaded hourly rate. Therefore, the USPTO estimates that the respondent cost burden for this collection will be approximately $17,798,960 per year.

Item | Estimated time for response | Estimated annual responses | Estimated annual burden hours
Response to Office Action (TEAS) | 17 minutes | 165,000 | 46,200
Preliminary Amendment (TEAS) | 17 minutes | 11,000 | 3,080
Request for Reconsideration after Final Action (TEAS) | 17 minutes | 16,500 | 4,620
Post Publication Amendment (TEAS) | 20 minutes | 3,600 | 1,188
Post Publication Amendment (paper) | 23 minutes | 720 | 274
Response to Suspension Inquiry or Letter of Suspension (TEAS) | 10 minutes | 9,700 | 1,649
Response to Suspension Inquiry or Letter of Suspension (paper) | 13 minutes | 1,840 | 405
TOTAL |  | 208,360 | 57,416

Estimated Total Annual (Non-hour) Respondent Cost Burden: $1,126. There are no capital start-up, operation, maintenance or record keeping costs, nor are there filing fees associated with this information collection.

Customers incur postage costs when submitting non-electronic information to the USPTO by mail through the United States Postal Service. The USPTO estimates that the majority of submissions for these paper forms are made via first class mail at a cost of 44 cents per submission. Therefore, the total estimated postage cost for this collection is $1,126 (2560 responses × $0.44).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized or included in the request for OMB approval of this information collection; they will also become a matter of public record.

Dated: November 5, 2009.
Susan K. Fawcett,
Records Officer, USPTO, Office of the Chief Information Officer.

[FR Doc. E9-27331 Filed 11-12-09; 8:45 am]

BILLING CODE 3510-16-P